DEPARTMENT OF EDUCATION

Office of Special Education and Rehabilitative Services (OSERS); Notice Reopening the Small Business Innovative Research (SBIR) Program Fiscal Year (FY) 2005 Competition

Catalog of Federal Domestic Assistance (CFDA) Number: 84.133S-1.

SUMMARY: On March 10, 2005, we published in the Federal Register (70 FR 11954) a notice inviting applications for the SBIR program's FY 2005 competition. The original notice for this FY 2005 competition established a May 9, 2005 deadline date for eligible applicants to apply for funding under this program.

In order to afford as many eligible applicants as possible an opportunity to receive funding under this program, we are reopening the SBIR Phase I program FY 2005 competition. The new application deadline date for the competition is June 10, 2005.

DATES: Deadline for Transmittal of Applications: June 10, 2005.

Note: Applications for grants under the SBIR Phase I program may be submitted either electronically using the Grants.gov site by 4:30 p.m., Washington, DC time or in paper format. Through the Grants.gov site, you will be able to register, download a copy of the application package, complete it offline, and then upload and submit your application. You may not e-mail an electronic copy of a grant application to us. For information about how to submit your application electronically or in paper format, please refer to Section IV. 7. Other Submission Requirements in the March 10, 2005 notice (70 FR 11956).

The deadline for the exception to the electronic submission requirement no longer applies.

Note: Grants.gov registration is a one-time process that takes several days to complete. You cannot submit an application until all of the Get Started steps are complete. For detailed information on the Get Started Steps, please go to: http://www.grants.gov/GetStarted.

FOR FURTHER INFORMATION CONTACT: Carol Cohen, U.S. Department of Education, 400 Maryland Avenue, SW., room 6035, Potomac Center Plaza, Washington, DC 20202-2700. Telephone: (202) 245-7303 or by e-mail: carol.cohen@ed.gov.

If you use a telecommunications device for the deaf (TDD), you may call the Federal Relay Service (FRS) at 1-800-877-8339.

Individuals with disabilities may obtain this document in an alternative format (e.g., Braille, large print, audiotape, or computer diskette) on request to the program contact person listed in this section.

SUPPLEMENTARY INFORMATION: Any eligible applicant may apply for funding under this program by the deadline date in this notice. Eligible applicants that submitted their applications in a timely manner for the SBIR program FY 2005 competition's original deadline date of 4:30 p.m. Washington, DC time on May 9, 2005, are not required to re-submit their applications or re-apply in order to be considered for FY 2005 awards under this program. We encourage eligible applicants to submit their applications as soon as possible to avoid any problems with filing electronic applications on the last day. For technical support and assistance on using grants.gov or for any technical problems you may experience contact the Grants.gov Customer Service Desk at 1-800-518-4726. The deadline for submission for applications will not be extended any further.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 27, 2005.
John H. Hager,
Assistant Secretary for Special Education and Rehabilitative Services.

[FR Doc. 05-11100 Filed 6-2-05; 8:45 am]

BILLING CODE 4000-01-P